DEPARTMENT OF AGRICULTURE

Office of the Secretary

Notice of Request for Extension of a Currently Approved Information Collection

AGENCY: Department of Agriculture.

ACTION: Notice.

SUMMARY: In accordance with the Paperwork Reduction Act of 1995, Chapter 35, Title 44 of the United States Code, this notice announces the Department of Agriculture's intention to request an extension on the currently approved information collection in support of debt collection.

DATES: Comments on this notice must be received by June 17, 2002, to be assured of consideration.

ADDRESSES: Address all comments concerning this notice to Dale Theurer, Credit, Travel and Accounting Policy, Office of the Chief Financial Officer, USDA, Room 4628 South Building, 1400 Independence Avenue, SW, Washington, DC 20250.

FOR FURTHER INFORMATION CONTACT: Joyce Baumgartner on 202-720-4958, FAX 202-690-1529, e-mail to jbaumgartner@cfo.usda.gov.

SUPPLEMENTARY INFORMATION: The Debt Collection Act of 1982, Public Law 97-365, 96 Stat. 1749, as amended by Public Law 98-167, 97 Stat. 1104, and the Debt Collection Improvement Act of 1996, Public Law 104-134, requires that any monies that are payable or may become payable from the United States under contracts and other written agreements to any persons or a legal entity not an agency or subdivision of a State or local government may be subject to administrative offset for the collection of a delinquent debt the person or legal entity owes to the United States.

Title: Debt Collection.

OMB Number: 0505-0007.

Expiration Date of Approval: June 28, 2002.

Type of Request: Extension on currently approved information collection.

Abstract: 31 U.S.C. 3716, which was enacted as part of the Debt Collection Act, authorizes the collection of debts by administrative offset, and the Debt Collection Improvement Act of 1996 expanded the application of administrative offset to every instance except where a statute explicitly prohibits the use of administrative offset for collection purposes. Protection is provided to debtors by requiring that an individual debtor be given notice of a debt. The notice provides information to delinquent debtors targeted for administrative offset who want additional information, desire to enter into repayment agreements, or desire to request a review of an agency's determination to offset. Creditor agencies use the collected information to respond and/or to take appropriate action. If the relevant information is not collected, the creditor agencies cannot comply with the due process provision of the Debt Collection Act and the Debt Collection Improvement Act. Collection of information only affects delinquent debtors.

Estimate of Burden: A public reporting and record keeping burden for this collection of information is estimated to average 1 hour per response.

Respondents: Delinquent debtors.

Estimated Number of Respondents: 37,710.

Estimated Number of Responses per Respondent: 2.

Estimated Total Annual Burden on Respondents: 75,420 hours.

All responses to this notice will be summarized and included in the request for Office of Management and Budget approval. All comments will also become a matter of public record.

Dated: April 11, 2002.
Edward McPherson,
Chief Financial Officer.

[FR Doc. 02-9257 Filed 4-16-02; 8:45 am]

BILLING CODE 3410-KS-P